DEPARTMENT OF COMMERCE

International Trade Administration

[A-570-933]

Frontseating Service Valves From the People's Republic of China: Preliminary Results of Antidumping Duty Administrative Review; 2013-2014

AGENCY: Enforcement and Compliance, International Trade Administration, Department of Commerce.

SUMMARY: The Department of Commerce (“the Department”) is conducting an administrative review of the antidumping duty order on frontseating service valves from the People's Republic of China (“PRC”). The period of review (“POR”) is April 1, 2013, through April 28, 2014. The review covers one exporter of the subject merchandise, Zhejiang Sanhua Co., Ltd. (“Sanhua”). The Department preliminarily finds that Sanhua made no sales of subject merchandise at less than normal value during the POR. Interested parties are invited to comment on these preliminary results.

DATES: Effective Date: April 8, 2015.

FOR FURTHER INFORMATION CONTACT: Laurel LaCivita, Enforcement and Compliance, Office III, International Trade Administration, Department of Commerce, 1401 Constitution Avenue NW., Washington, DC 20230; telephone: (202) 482-4243.

SUPPLEMENTARY INFORMATION:

Scope of the Order

The merchandise covered by this order is frontseating service valves, assembled or unassembled, complete or incomplete, and certain parts thereof of any size, configuration, material composition or connection type.¹ Frontseating service valves are classified under subheading 8481.80.1095, and also have been classified under subheading 8415.90.80.85, of the Harmonized Tariff Schedule of the United States (“HTSUS”). It is possible for frontseating service valves to be manufactured out of primary materials other than copper and brass, in which case they would be classified under HTSUS subheadings 8481.80.3040, 8481.80.3090, or 8481.80.5090. In addition, if unassembled or incomplete frontseating service valves are imported, the various parts or components would be classified under HTSUS subheadings 8481.90.1000, 8481.90.3000, or 8481.90.5000. The HTSUS subheadings are provided for convenience and customs purposes, but the written description of the scope of this proceeding is dispositive.

¹ See “Decision Memorandum for Preliminary Results of 2013-2014 Antidumping Duty Administrative Review: Frontseating Service Valves from the People's Republic of China,” dated concurrently with this notice and herein incorporated by reference (“Preliminary Decision Memorandum”) for a complete description of the scope of the Order.

Methodology

The Department conducted this review in accordance with section 751(a)(1)(B) of the Tariff Act of 1930, as amended (“the Act”). Constructed export prices are calculated in accordance with section 772(b) of the Act. Because the PRC is a non-market economy (“NME”) within the meaning of section 771(18) of the Act, normal value is calculated in accordance with section 773(c) of the Act.

For a full description of the methodology underlying our preliminary results, see the Preliminary Decision Memorandum. The Preliminary Decision Memorandum is a public document and is on file electronically via Enforcement and Compliance's Antidumping and Countervailing Duty Centralized Electronic Service System (“ACCESS”).² ACCESS is available to registered users at http://access.trade.gov and in the Central Records Unit, room 7046 of the main Department of Commerce building. In addition, a complete version of the Preliminary Decision Memorandum can be accessed directly on the internet at http://www.trade.gov/enforcement/. The signed Preliminary Decision Memorandum and the electronic version of the Preliminary Decision Memorandum are identical in content. A list of the topics discussed in the Preliminary Decision Memorandum, is attached as the Appendix to this notice.

² On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the reference to the Regulations can be found at 79 FR 69046 (November 20, 2014).

Preliminary Results of Review

The Department preliminarily determines that the following weighted-average dumping margin exists for the POR April 1, 2013, through April 28, 2014:

Exporter | Weighted-average dumping margin (percent)
Zhejiang Sanhua Co., Ltd | 0.00

Disclosure and Public Comment

The Department intends to disclose to the parties the calculations performed for these preliminary results within five days of the date of publication of this notice in accordance with 19 CFR 351.224(b).

Interested parties may submit written comments no later than 30 days after the date of publication of these preliminary results of review.³ Rebuttals to written comments may be filed no later than five days after the written comments are filed.⁴

³ See 19 CFR 351.309(c).

⁴ See 19 CFR 351.309(d).

Any interested party may request a hearing within 30 days of publication of this notice.⁵ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.⁶

⁵ See 19 CFR 351.310(c).

⁶ See 19 CFR 351.310(d)(1).

Unless otherwise extended, the Department intends to issue the final results of this administrative review, which will include the results of its analysis of issues raised in any such comments, within 120 days of publication of these preliminary results, pursuant to section 751(a)(3)(A) of the Act.

Assessment Rates

Upon issuance of the final results of this review, the Department will determine, and CBP shall assess, antidumping duties on all appropriate entries covered by this review.⁷ The Department intends to issue appropriate assessment instructions to CBP 15 days after publication of the final results of this review.

⁷ See 19 CFR 351.212(b)(1).

For any individually examined respondent whose weighted-average dumping margin is above de minimis, we will calculate importer-specific ad valorem duty assessment rates based on the ratio of the total amount of dumping calculated for the importer's examined sales to the total entered value of those same sales in accordance with 19 CFR 351.212(b)(1).⁸ For duty assessment rates calculated on this basis, we will direct CBP to assess the resulting ad valorem rate against the entered customs values for the subject merchandise.

⁸ In these preliminary results, the Department applied the assessment rate calculation method adopted in Antidumping Proceedings: Calculation of the Weighted-Average Dumping Margin and Assessment Rate in Certain Antidumping Proceedings: Final Modification, 77 FR 8101 (February 14, 2012).

The Department announced a refinement to its assessment practice in NME cases. Pursuant to this refinement in practice, for entries that were not reported in the U.S. sales databases submitted by companies individually examined during this review, the Department will instruct CBP to liquidate such entries at the PRC-wide rate. In addition, if the Department determines that an exporter under review had no shipments of the subject merchandise, any suspended entries that entered under that exporter's case number (i.e., at that exporter's rate) will be liquidated at the PRC-wide rate.⁹

⁹ See Non-Market Economy Antidumping Proceedings: Assessment of Antidumping Duties, 76 FR 65694, 65694-95 (October 24, 2011).

The final results of this review shall be the basis for the assessment of antidumping duties on entries of merchandise covered by the final results of this review.

Cash Deposit Requirements

Because the antidumping duty order on frontseating service valves from the PRC was revoked,¹⁰ the Department will not issue cash deposit instructions at the conclusion of this administrative review.

¹⁰ See Frontseating Service Valves from the People's Republic of China: Final Results of Sunset Review and Revocation of Antidumping Duty Order, 79 FR 27573 (May 14, 2014).

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing notice of these results in accordance with sections 751(a)(1) and 777(i)(1) of the Act.

Dated: March 31, 2015.
Paul Piquado,
Assistant Secretary for Enforcement and Compliance.

Appendix

List of Topics Discussed in the Preliminary Decision Memorandum

1. Background

2. Scope of the Order

3. Non-Market Economy Country

4. Separate Rates

5. Surrogate Country and Surrogate Value Data

6. Surrogate Country

7. Economic Comparability

8. Significant Producers of Identical or Comparable Merchandise

9. Data Availability

10. Date of Sale

11. Comparisons to Normal Value

12. Constructed Export Price

13. Value-Added Tax

14. Normal Value

15. Factor Valuations

16. Currency Conversion

[FR Doc. 2015-08120 Filed 4-7-15; 8:45 am]

BILLING CODE 3510-DS-P